DEPARTMENT OF THE INTERIOR

Minerals Management Service

Environmental Documents Prepared for Proposed Mineral Exploration on the Alaska Outer Continental Shelf

AGENCY: Minerals Management Service, Interior.

ACTION: Notice of the availability of environmental documents prepared for proposed mineral exploration on the Alaska Outer Continental Shelf.

SUMMARY: Minerals Management Service (MMS), in accordance with Federal regulations that implement the National Environmental Policy Act (NEPA), announces the availability of a NEPA-related Environmental Assessment (EA) prepared by MMS for oil and gas exploration activities proposed on the Alaska Outer Continental Shelf (OCS). This notice includes the only proposal for which an EA and Finding of No Significant Impact (FONSI) were prepared by the Alaska OCS Office since July 1, 1999.

FOR FURTHER INFORMATION CONTACT: Persons interested in reviewing the EA and FONSI for the proposal listed above are encouraged to contact the MMS Alaska OCS Regional office. The documents are available for public inspection between the hours of 7:45 a.m. and 4:30 p.m., Monday through Friday at: Minerals Management Service, Alaska OCS Region, Resource Center, 949 East 36th Avenue, Room 330, Anchorage, Alaska 99508-4363, phone: (907) 271-6070 or (907) 271-6621 or toll free at 1-800-764-2627. Request may also be sent to MMS at akwebmaster@mms.gov.

SUPPLEMENTARY INFORMATION: Proposal. The proposal is for exploratory-drilling operations that would be conducted in accordance with the OCS Lands Act Amendments. The purpose of the EA is to evaluate the probable environmental effects of the operations, described in the Exploration Plan (EP) for the McCovey Prospect, dated January 2002. The McCovey drill site would be located in the Central Alaskan Beaufort Sea about 14 miles north of Prudhoe Bay and 12 miles east of the Northstar Development. Information about the methods by which the exploration wells would be drilled are detailed in the EP and in the associated Environmental Report and Oil Discharge Prevention and Contingency Plan.

Location

Leases—Blocks

OCS-Y-1577—NR 06-03 475 through 477 inclusive

OCS-Y-1578—NR 06-03 475, 476, 519 & 520

EA Number: EA No. AK 02-01.

FONSI Date: February 27, 2002.

The MMS prepares EAs and FONSIs for proposals which relate to exploration for oil and gas resources on the Alaska OCS. The EAs examine the potential environmental effects of activities described in the proposals and present MMS conclusions regarding the significance of those effects. The EAs are used as the basis for determining whether or not approvals of the proposals would significantly affect the quality of the human environment in the sense of NEPA 102(2)(C). A FONSI is prepared in those instances where MMS finds that approval will not result in significant effects on the quality of the human environment. This Notice constitutes the public Notice of Availability of environmental documents required under the NEPA regulations.

Dated: April 9, 2002.
John Goll,
Regional Director, Alaska OCS Region, Minerals Mangement Service.

[FR Doc. 02-11639 Filed 5-8-02; 8:45 am]

BILLING CODE 4310-MR-P